DEPARTMENT OF TRANSPORTATION

Federal Aviation Administration

14 CFR Part 39

[Docket No. 98-ANE-45-AD]

RIN 2120-AA64

Airworthiness Directives; International Aero Engines AG V2500-A1, V2522-A5, V2524-A5, V2525-D5, V2527-A5, V2527E-A5, V2527M-A5, V2528-D5, V2530-A5, and V2533-A5 Turbofan Engines

AGENCY: Federal Aviation Administration, DOT.

ACTION: Notice of proposed rulemaking (NPRM).

SUMMARY: The Federal Aviation Administration (FAA) proposes to supersede an existing airworthiness directive (AD), applicable to International Aero Engines AG (IAE) V2500-A1, V2522-A5, V2524-A5, V2525-D5, V2527-A5, V2527E-A5, V2527M-A5, V2528-D5, V2530-A5, and V2533-A5 turbofan engines. That AD currently requires revisions to the Airworthiness Limitations Section (ALS) and Maintenance Scheduling Section (MSS) of the Instructions for Continued Airworthiness (ICA), located in the Time Limits Manual (Chapter 05-10-00) of the Engine Manuals, to include required enhanced inspection of selected critical life-limited parts at each piece-part exposure. This action would add critical life-limited parts for enhanced inspection. This action is prompted by additional focused inspection procedures that have been developed by the manufacturer. The actions specified by this proposed AD are intended to prevent critical life-limited rotating engine part failure, which could result in an uncontained engine failure and damage to the airplane.

DATES: Comments must be received by August 25, 2003.

ADDRESSES: Submit comments in triplicate to the Federal Aviation Administration (FAA), New England Region, Office of the Regional Counsel, Attention: Rules Docket No. 98-ANE-45-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line.

FOR FURTHER INFORMATION CONTACT: James Rosa, Aerospace Engineer, Engine Certification Office, FAA, Engine and Propeller Directorate, 12 New England Executive Park, Burlington, MA 01803-5299; telephone (781) 238-7152; fax (781) 238-7199.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 98-ANE-45-AD.” The postcard will be date stamped and returned to the commenter.

Availability of NPRM's

Any person may obtain a copy of this NPRM by submitting a request to the FAA, New England Region, Office of the Regional Counsel, Attention: Rules Docket No. 98-ANE-45-AD, 12 New England Executive Park, Burlington, MA 01803-5299.

Discussion

On June 6, 2000, the FAA issued AD 2000-12-05, Amendment 39-11783 (65 FR 36783, June 12, 2000), to require revisions to the Airworthiness Limitations Section (ALS) and Maintenance Scheduling Section (MSS) of the Instructions for Continued Airworthiness (ICA) in the Time Limits Manual (Chapter 05-10-00) of the Engine Manuals of International Aero Engines AG (IAE) V2500-A1, V2522-A5, V2524-A5, V2525-D5, V2527-A5, V2527E-A5, V2527M-A5, V2528-D5, V2530-A5, and V2533-A5 turbofan engines to include required enhanced inspection of selected critical life-limited parts at each piece-part exposure.

New Inspection Procedures

Since AD 2000-12-05 was issued, IAE has developed additional focused inspection procedures. This proposal would add the high pressure compressor (HPC) stage 3-8 drum, HPC stage 9-12 drum, HPC rear shaft, HPC stage rear rotating seal, and stages 3 through 7 low pressure turbine (LPT) disks that would require enhanced inspection at each piece-part exposure.

Proposed Requirements of This AD

Since an unsafe condition has been identified that is likely to exist or develop on other products of this same type design that are used on IAE V2500-A1, V2522-A5, V2524-A5, V2525-D5, V2527-A5, V2527E-A5, V2527M-A5, V2528-D5, V2530-A5, and V2533-A5 turbofan engines registered in the United States, the proposed AD would supersede AD 2000-12-05 to add critical life-limited parts for enhanced inspection at each piece-part opportunity.

Economic Analysis

The FAA estimates that 734 engines installed on airplanes of U.S. registry would be affected by this proposed AD, that it would take approximately 24 work hours per engine to perform the proposed enhanced inspection for high pressure compressor (HPC) stage 3-8 drums, HPC stage 9-12 drum, HPC rear shaft, HPC rear rotating seal, and stages 3 through 7 low pressure turbine (LPT) disks. The average labor rate is $60 per work hour. The total cost of the added inspections per engine would be approximately $1,440. Using average shop visitation rates, the annual cost of the added inspections on U.S. operators is approximately $1,056,960.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11783 (65 FR 36783, June 12, 2000), and by adding a new airworthiness directive:

International Aero Engines AG: Docket No. 98-ANE-45-AD. Supersedes AD 2000-12-05, Amendment 39-11783.

Applicability: This airworthiness directive (AD) is applicable to International Aero Engines AG (IAE) V2500-A1, V2522-A5, V2524-A5, V2525-D5, V2527-A5, V2527E-A5, V2527M-A5, V2528-D5, V2530-A5, and V2533-A5 turbofan engines. These engines are installed on, but not limited to Airbus Industrie A319, A320, and A321 series, and McDonnell Douglas MD-90 airplanes.

Note 1: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required as indicated, unless already done.

To prevent critical life-limited rotating engine part failure, which could result in an uncontained engine failure and damage to the airplane, do the following:

Inspections

(a) Within the next 90 days after the effective date of this AD, revise the Airworthiness Limitations Section (ALS) and Maintenance Scheduling Section (MSS) of the Instructions for Continued Airworthiness (ICA) located in the Time Limits Manual (Chapter 05-10-00) of the Engine Manuals, part number (P/N) E-V2500-1IA and P/N E-V2500-3IA, and for air carrier operations revise the approved continuous airworthiness maintenance program, by

(1) Adding the following to paragraph 1, entitled “Airworthiness Limitations:” “Refer to paragraph 2—Maintenace Scheduling for information that sets forth the operator's maintenance requirements for the V2500 On-Condition engine.”

(2) Adding the following paragraph 2, entitled “Maintenance Scheduling:” “Whenever a Group A part identified in this paragraph (see 4.0 for definition of Group A) satisfies both of the following conditions:

The part is considered completely disassembled when accomplished in accordance with the disassembly instructions in the engine manufacturer's engine manual; and

The part has accumulated more than 100 cycles in service since the last piece-part opportunity inspection, provided that the part was not damaged or related to the cause for its removal from the engine; then that part is considered to be at the piece-part level and it is mandatory to perform the inspections for that part as specified in the following:

Part nomenclature | Part number (P/N) | Inspect per engine manual chapter
Fan Disk | All | Chapter 72-31-12, Subtask 72-31-12-230-054
Stage 1 HP Turbine Hub | All | Chapter 72-45-11, Task 72-45-11-200-002
Stage 2 HP Turbine Hub | All | Chapter 72-45-31, Task 72-45-31-200-004
High Pressure Compressor (HPC) Stage 3-8 Drum | All | Chapter 72-41-11, Task 72-41-11-200-001
HPC Stage 9-12 Drum | All | Chapter 72-41-12, Task 72-41-12-200-001
HPC Rear Shaft | All | Chapter 72-41-13, Task 72-41-13-200-001
HPC Stage Rear Rotating Seal | All | Chapter 72-41-14, Task 72-41-14-200-001
Stages 3 through 7 Low Pressure Turbine (LPT) Disks | All | Chapter 72-50-31, Task 72-50-31-200-006 ”

(b) Except as provided in paragraph (c) of this AD, and notwithstanding contrary provisions in section 43.16 of the Federal Aviation Regulations (14 CFR 43.16), these mandatory inspections must be performed only in accordance with the ALS and MSS of the ICA in the Time Limits Manual (Chapter 05-10-00) of the Engine Manuals, P/N E-V2500-1IA and P/N E-V2500-3IA.

Alternative Methods of Compliance

(c) An alternative method of compliance or adjustment of the compliance time that provides an acceptable level of safety may be used if approved by the Manager, Engine Certification Office (ECO). Operators must submit their request through an appropriate FAA Principal Maintenance Inspector (PMI), who may add comments and then send it to the Manager, ECO.

Note 2: Information concerning the existence of approved alternative methods of compliance with this airworthiness directive, if any, may be obtained from the ECO.

Special Flight Permits

(d) Special flight permits may be issued in accordance with §§ 21.197 and 21.199 of the Federal Aviation Regulations (14 CFR 21.197 and 21.199) to operate the airplane to a location where the requirements of this AD can be done.

Continuous Airworthiness Maintenance Program

(e) FAA-certificated air carriers that have an approved continuous airworthiness maintenance program in accordance with the record keeping requirement of § 121.369 (c) of the Federal Aviation Regulations (14 CFR 121.369 (c)) of this chapter must maintain records of the mandatory inspections that result from revising the ALS and MSS of the ICA in the Time Limits Manual (Chapter 05-10-00) of the Engine Manuals, P/N E-V2500-1IA and P/N E-V2500-3IA, and the air carrier's continuous airworthiness program. Alternatively, certificated air carriers may establish an approved system of record retention that provides a method for preservation and retrieval of the maintenance records that include the inspections resulting from this AD, and include the policy and procedures for implementing this alternate method in the air carrier's maintenance manual required by § 121.369 (c) of the Federal Aviation Regulations (14 CFR 121.369 (c)); however, the alternate system must be accepted by the appropriate PMI and require the maintenance records be maintained either indefinitely or until the work is repeated. Records of the piece-part inspections are not required under § 121.380 (a) (2) (vi) of the Federal Aviation Regulations (14 CFR 121.380 (a) (2) (vi)). All other operators must maintain the records of mandatory inspections required by the applicable regulations governing their operations.

Note 3: The requirements of this AD have been met when the engine manual changes are made and air carriers have modified their continuous airworthiness maintenance plans to reflect the requirements in the Engine Manuals.

Issued in Burlington, Massachusetts, on June 18, 2003.
Mark C. Fulmer,
Acting Manager, Engine and Propeller Directorate, Aircraft Certification Service.

[FR Doc. 03-15994 Filed 6-24-03; 8:45 am]

BILLING CODE 4910-13-P